DEPARTMENT OF HEALTH AND HUMAN SERVICES

Notice of Funding Availability for State Partnership Grant Program To Improve Minority Health

AGENCY: Department of Health and Human Services, Office of the Secretary, Office of Public Health and Science, Office of Minority Health.

ACTION: Notice.

Funding Opportunity Title: State Partnership Grant Program To Improve Minority Health.

Announcement Type: Initial Announcement of Availability of Funds.

Catalog of Federal Domestic Assistance Number: 93.006.

DATES: Application Availability Date: June 22, 2005. Application Deadline: July 22, 2005.

SUMMARY: This announcement is made by the United States Department of Health and Human Services (HHS or Department), Office of Minority Health (OMH) located within the Office of Public Health and Science (OPHS), and working in a “One-Department” approach collaboratively with participating HHS agencies and programs (entities). The mission of the OMH is to improve the health of racial and ethnic minority populations through the development of policies and programs that address disparities and gaps. OMH serves as the focal point in the HHS for leadership, policy development and coordination, service demonstrations, information exchange, coalition and partnership building, and related efforts to address the health needs of racial and ethnic minorities.

As part of a continuing HHS effort to improve the health and well being of racial and ethnic minorities, the Department announces availability of FY 2005 funding for the State Partnership Grant Program To Improve Minority Health.

SUPPLEMENTARY INFORMATION:

Section I. Funding Opportunities

Authority: This program is authorized under 42 U.S.C. 300u-6, section 1707 of the Public Health Service Act, as amended.

1. Purpose: The State Partnership Grant Program To Improve Minority Health (hereinafter referred to as State Partnership Program) seeks to facilitate the improvement of minority health and elimination of health disparities (adult/child immunization, asthma, cancer, diabetes, heart disease and stroke, HIV, infant mortality, and mental health) through the development of partnerships with State and territorial offices of minority health.

2. OMH Expectations: It is intended that this program will result in:

• Improved coordination and collaboration among state and territorial public health offices that benefit minority health and contribute to eliminating health disparities;

• Improved State and territory-wide coordination, collaboration, and linkages among public and private entities that specifically address minority health and health disparities;

• Improved State and territorial planning focused on minority health and health disparities;

• Dedicated State and territorial leadership and staffing to support planning and coordination, promote and implement evidence-based approaches and programs to address priority minority health problem(s), monitor and evaluate State and territorial efforts, and disseminate information focused on improving minority health and eliminating health disparities;

• Increased State and territory-wide efforts to improve minority health and eliminate health disparities through the support of community programs;

• Establishment or enhancement of multicultural coalition building efforts within communities of color to collaboratively address health issues impacting minority communities; and

• Strategies to improve diversity of the health care workforce.

3. Applicant Project Results: Applicants must identify anticipated project results that are consistent with the overall program purpose and that address selected OMH expectations. Project results should fall within the following general categories:

• Establishing Policy(ies).

• Mobilizing Communities, Coalitions, and Networks.

• Enhancing Infrastructure.

• Changing Systems.

• Increasing Access to Health Care for Minority Populations.

• Increasing Knowledge and Awareness About Minority Health Care Issues.

• Increasing Participation of Minorities in the Health Professions.

4. Project Requirements: Each applicant under the State Partnership Program must propose to:

• Carry out projects that facilitate the improvement of minority health and elimination of health disparities.

• Address at least two of the identified OMH expectations.

Section II. Award Information

Estimated Funds Available for Competition: $5,000,000.

Anticipated Number of Awards: Up to 39.

Range of Awards: $125,000 to $175,000 per year.

Anticipated Start Date: September 1, 2005.

Period of Performance: 5 Years (September 1, 2005 to August 31, 2010).

Budget Period Length: 12 months.

Type of Award: Grant.

Type of Application Accepted: New.

Section III. Eligibility Information

1. Eligible Applicants

This is a limited competition. To qualify for funding, an applicant must be a currently established State or territorial office of minority health at the time of this announcement (see Section VIII.3 for list of eligible States/territories with established offices of minority health). States that do not have a formally recognized office of minority health (established through legislation, executive order, or a directive process) may not apply for these State Partnership Program grants. States that do not have formal offices of minority health are not as likely to have the linkages and infrastructure necessary to foster effective relationships with public/private entities and/or community-based minority-focused organizations necessary to address the health needs of racial and ethnic minorities, as required for this program.

Documentation that verifies official status as an established state or territorial office of minority health must be submitted. Examples of such documentation include: a signed statement from a State/territorial level authorizing official (e.g., Governor or designated official, Commissioner of Health, or designee) verifying official status, or a copy of the Executive Order or statute that established the State or territorial office of minority health.

A signed letter of support and commitment for the proposed project from an authorizing State or territorial official (e.g., Commissioner of Health, State health director, or designee) is also required as part of the application.

The established State or territorial office of minority health will:

• Serve as the lead office for the project.

• Be responsible for grant implementation, management, and evaluation.

2. Cost Sharing or Matching

Matching funds are not required for the State Partnership Program.

3. Other

This limited competition is based, in part, on OMH's 1998 study to assess the minority health infrastructure within selected States and territories, and to examine the capacity of these States and territories to address racial and ethnic health disparities in their jurisdictions. A finding of the Assessment of State Minority Health Infrastructure and Capacity to Address Issues of Health Disparity (final report—September 2000) was that, despite many challenges, State and/or territorial offices of minority health are an organized and visible presence at the State policymaking level and provide opportunities for shaping and creating initiatives that could affect the health status of minority populations and serve as pivotal points for Federal, State, and local efforts to improve the health status of minority populations. In addition, these offices serve an important information dissemination function-providing information on minority health issues to policymakers, health professionals, community-based organizations, and the general public.

Established State and/or territorial offices of minority health may submit no more than one application to the State Partnership Program. Eligible States and territories submitting more than one proposal for this grant program will be deemed ineligible. The proposals will be returned without comment.

Established State and/or territorial offices of minority health are not eligible to receive funding from more than one OMH grant program to carry out the same project and/or activities.

Section IV. Application and Submission Information

1. Address To Request Application Package

Application kits may be obtained:

• At http://www.omhrc.gov

• By writing to Ms. Karen Campbell, Director, Office of Grants Management, OPHS, Tower Building, 1101 Wootton Parkway, Suite 550, Rockville, MD 20852; or contact the Office of Grants Management at (240) 453-8822. Please specify the OMH program for which you are requesting an application kit.

2. Content and Form of Application Submission

A. Application and Submission: Applicants must use Grant Application Form OPHS-1. Forms to be completed include the Face Page/Cover Page (SF424), Checklist, and Budget Information Forms for Non-Construction Programs (SF424A). In addition to the application forms, applicants must provide a project narrative.

The project narrative (including summary) is limited to 25 double-spaced pages. The appendices are limited to an additional 20 pages.

The narrative must be printed on one side of 8½ by 11-inch white paper, with one-inch margins, double-spaced and 12-point font. All pages must be numbered sequentially including any appendices. (Do not use decimals or letters, such as: 1.3 or 2A). Do not staple or bind the application package. Use rubber bands or binder clips.

The narrative description of the project must contain the following:

• Table of Contents: Include with page numbers for each of the following sections.

• Project Summary: Briefly describe key aspects of the Statement of Need, Objectives, Program Plan, Evaluation Plan, and Management Plan. The summary should be no more than 3 pages in length.

• Statement of Need: Describe and provide demographic information and data on the minority health and health disparities issues in the State/territory, and the significance or prevalence of the health problem or issues affecting the target minority group(s). Describe the minority group(s) targeted by the project (e.g., race/ethnicity, age gender, educational level/income). Describe the applicant organization (State/territorial office of minority health) and efforts that are currently being undertaken by the organization to address minority health and health disparities.

• Objectives: State objectives in measurable terms, including baseline data and time frames for achievement for the five-year project period.

• Program Plan: Clearly describe how the project will be carried out. Describe specific activities and strategies planned to achieve each objective. For each activity, describe how, when, where, by whom, and for whom the activity will be conducted. Describe the role of any proposed linkage organization(s) in the project. Describe any products to be developed by the project. Provide a time line chart.

• Evaluation Plan: The evaluation plan must clearly articulate how the State/territory will evaluate program activities. It is expected that evaluation activities will be implemented at the beginning of the program in order to capture and document actions contributing to program outcomes. The evaluation plan must be able to produce documented results that demonstrate whether and how the strategies and activities funded under the Program made a difference in the improvement of minority health and the elimination of health disparities. The plan should identify the expected results for each major objective and activity. The description should include data collection and analysis methods, demographic data to be collected on project participants, process measures describing indicators to be used to monitor and measure progress toward achieving projected results by objectives, outcome measures which will show that the project has accomplished planned activities, and impact measures demonstrating achievement of the objectives to positively affect minority health issues. Discuss the potential for replication.

• Management Plan: Provide a description of proposed program staff, including resumes and job descriptions for key staff, qualifications and responsibilities of each staff member, and percent of time each is committing to the project. Provide a description of duties for any proposed consultants and/or collaborating public health entities. Discuss the applicant organization's experience in managing projects/activities, especially those targeting the population to be served. Include a chart of the organization's structure, showing who reports to whom, and of the proposed project's organizational structure. Describe how senior State health officials will be engaged in this program and/or periodically informed on the activities and outcomes of the program. Describe the background/experience of any proposed linkage organization and how the organization will interface with the applicant organization.

• Appendices: Include documentation and other supporting information in this section and other relevant information.

In addition to the project narrative, the application must contain a detailed budget justification (does not count toward the page limitation). The detailed budget justification must include a narrative and computation of expenditures for each year in which grant support is requested. The budget request should include funds for key project staff to attend an annual OMH grantee meeting and the OMH Second National Leadership Summit on Eliminating Racial and Ethnic Disparities in Health, scheduled for January 9-11, 2006.

The complete application kit will provide instructions on the content of each of these sections.

B. Data Universal Numbering System number (DUNS): Applicants are required to obtain a DUNS number as preparation for doing business electronically with the Federal Government. The DUNS number must be obtained prior to applying for OMH funds.

The DUNS number is a nine-character identification code provided by the commercial company Dun & Bradstreet, and serves as a unique identifier for business entities. There is no charge for requesting a DUNS number, and you may register and obtain a DUNS number by either the following methods: Telephone: 1-866-705-5711; Web site: https://eupdate.dnb.com/requestoptions.html.

Click on the link that reads, “DUNS Number Only” at the left hand, bottom corner of the screen to access the free registration page. Please note that registration via the Web site may take up to 30 business days to complete.

3. Submission Dates and Times

Application Deadline Date: July 22, 2005.

Submission Mechanisms

The Office of Public Health and Science (OPHS) provides multiple mechanisms for the submission of applications, as described in the following sections. Applicants will receive notification via mail from the Office of Grants Management, OPHS, confirming the receipt of applications submitted using any of these mechanisms. Applications submitted to the Office of Grants Management, OPHS, after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by the OPHS eGrants system or the Grants.gov Web site Portal is encouraged.

Electronic Submissions Via the OPHS eGrants System

The OPHS electronic grants management system, eGrants, provides for applications to be submitted electronically. Information about this system is available on the OPHS eGrants Web site, https://egrants.osophs.dhhs.gov, or may be requested from the Office of Grants Management, OPHS, at 301-594-0758.

The body of the application and required forms can be submitted using the OPHS eGrants system. In addition to electronically submitted materials, applicants are required to submit a hard copy of the application face page (Standard Form 424) with the original signature of an individual authorized to act for the applicant agency or organization and to assume for the organization the obligations imposed by the terms and conditions of the grant award. If required, applicants will also need to submit a hard copy of the Standard Form LLL and/or certain program related forms with the original signature of an individual authorized to act for the applicant agency or organization. The application will not be considered complete until both the electronic application components submitted via the OPHS eGrants system and any hard copy materials or original signatures are received.

Electronic grant application submissions must be submitted via the OPHS eGrants system no later than 5 p.m. Eastern Time on the deadline date specified in the DATES section of the announcement. All required hardcopy original signatures and mail-in items must be received by the Office of Grants Management, OPHS, no later than 5 p.m. Eastern Time on the next business day after the deadline specified in the DATES section of the announcement.

Applications will not be considered valid until all electronic application components, hardcopy original signatures, and mail-in items are received by the Office of Grants Management, OPHS, according to the deadlines specified above. Any application submitted electronically after 5 p.m. Eastern Time on the deadline date specified in the DATES section of the announcement will be considered late and will be deemed ineligible. Failure of the applicant to submit all required hardcopy original signatures and required mail-in items to the Office of Grants Management, OPHS, by 5 p.m. Eastern Time on the next business day after the deadline date specified in the DATES section of the announcement will result in the electronic application being deemed ineligible.

Upon completion of a successful electronic application submission, the OPHS eGrants system will provide the applicant with a confirmation page indicating the date and time (Eastern Time ) of the electronic application submission. This confirmation page will also provide a listing of all items that constitute the final application submission including all electronic application components, required hardcopy original signatures, and mail-in items, as well as the mailing address of the Office of Grants Management, OPHS, where all required hard copy materials must be submitted.

As items are received by the Office of Grants Management, OPHS, the electronic application status will be updated to reflect the receipt of mail-in items. It is recommended that the applicant monitor the status of their application in the OPHS eGrants system to ensure that all signatures and mail-in items are received.

Applicants are encouraged to initiate electronic applications early in the application development process, and to submit early on the due date or before. This will aid in addressing any problems with submissions prior to the application deadline.

Electronic Submissions via the Grants.gov Web Site Portal

The Grants.gov Web site Portal provides for applications to be submitted electronically. Information about this system is available on the Grants.gov Web site, http://www.grants.gov.

The body of the application and required forms can be submitted using the Grants.gov Web site Portal. Grants.gov allows the applicant to download and complete the application forms at any time, however, it is required that organizations successfully complete the necessary registration processes in order to submit the application to Grants.gov.

In addition to electronically submitted materials, applicants may be required to submit hard copy signatures for certain program related forms, or original materials as required by the announcement. It is imperative that the applicant review both the grant announcement, as well as the application guidance provided within the Grants.gov application package, to determine such requirements. Any required hard copy materials, or documents that require a signature, excluding the standard forms included in the Grants.gov application package (e.g., Standard Form 424 Face Page, Standard Assurances and Certifications (Standard Form 424B, and Standard Form LLL) must be submitted separately via mail to the Office of Grants Management, OPHS, and, if required, must contain the original signature of an individual authorized to act for the applicant agency or organization and to assume for the organization the obligations imposed by the terms and conditions of the grant award.

Electronic grant application submissions must be submitted via the Grants.gov Web site Portal no later than 5 p.m. Eastern Time on the deadline date specified in the DATES section of the announcement. All required hardcopy original signatures and mail-in items must be received by the Office of Grants Management, OPHS, no later than 5 p.m. Eastern Time on the next business day after the deadline date specified in the DATES section of the announcement.

Applications will not be considered valid until all electronic application components, hardcopy original signatures, and mail-in items are received by the Office of Grants Management, OPHS, according to the deadlines specified above. Any application submitted electronically via the Grants.gov Web site Portal after 5 p.m. Eastern Time on the deadline date specified in the DATES section of the announcement will be considered late and will be deemed ineligible. Failure of the applicant to submit all required hardcopy original signatures or materials to the Office of Grants Management, OPHS, by 5:00 p.m. Eastern Time on the next business day after the deadline date specified in the DATES section of the announcement will result in the electronic application being deemed ineligible.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the OPHS eGrants system, and OPHS has no responsibility for any application that is not validated and transferred to OPHS from the Grants.gov Web site Portal. Grants.gov will notify the applicant regarding the application validation status. Once the application is successfully validated by the Grants.gov Web site Portal, applicants should immediately mail all required hard copy materials to the Office of Grants Management, OPHS, to be received by the deadlines specified above. It is critical that the applicant clearly identify the Organization name and Grants.gov Application Receipt Number on all hard copy materials.

Once the application is validated by Grants.gov, it will be electronically transferred to the OPHS eGrants system for processing. Upon receipt of both the electronic application from the Grants.gov Web site Portal, and the required hardcopy mail-in items, applicants will receive notification via mail from the Office of Grants Management, OPHS, confirming the receipt of the application submitted using the Grants.gov Web site Portal.

Applicants are encouraged to initiate electronic applications via the Grants.gov Web site Portal early in the application process, and to submit early on the due date or before. This will aid in addressing any problems with submissions prior to the application deadline.

Applicants should contact Grants.gov regarding any questions or concerns pertaining to the electronic application process conducted through the Grants.gov Web site Portal.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the Office of Grants Management, OPHS, on or before 5 p.m. Eastern Time on the deadline date specified in the DATES section of the announcement. The application deadline date requirement specified in this announcement supersedes the instructions in the OPHS-1. Applications that do not meet the deadline will be returned to the applicant unread.

4. Intergovernmental Review

The State Partnership Program is subject to the requirements of Executive Order 12372 which allows States the options of setting up a system for reviewing applications from within their States for assistance under certain Federal programs. The application kits available under this notice will contain a list of States which have chosen to set up a review system and will include a State Single Point of Contact (SPOC) in the State for review. The SPOC list is also available on the Internet at the following address: http://www.whitehouse.gov/omb/grants/spoc.html. Applicants should contact their SPOC as early as possible to alert them to the prospective applications and receive any necessary instructions on the State process. The due date for State process recommendations is 60 days after the application deadlines established by the OPHS Grants Management Officer. The OMH does not guarantee that it will accommodate or explain its responses to State process recommendations received after that date. (See “Intergovernmental Review of Federal Programs,” Executive Order 12372, and 45 CFR Part 100 for a description of the review process and requirements.)

5. Funding Restrictions

Budget Request: If funding is requested in an amount greater than the ceiling of the award range, the application will be considered non-responsive and will not be entered into the review process. The application will be returned with notification that it did not meet the submission requirements.

Grant funds may be used to cover costs of:

• Personnel.

• Consultants.

• Equipment.

• Supplies (including screening and outreach supplies).

• Grant-related travel (domestic only), including attendance at an annual OMH grantee meeting and an OMH leadership summit.

• Other grant-related costs.

Grants funds may not be used for:

• Building alterations or renovations.

• Construction.

• Fund raising activities.

• Job training.

• Medical care, treatment or therapy. Political education and lobbying.

• Research studies involving human subjects.

• Vocational rehabilitation.

Guidance for completing the budget can be found in the Program Guidelines, which are included with the complete application kits.

6. Other Submission Requirements

For applications submitted in hard copy, send an original, signed in blue ink, and two copies of the complete grant application to: Ms. Karen Campbell, Director, Office of Grants Management, OPHS, 1101 Wootton Parkway, Suite 550, Rockville, MD 20852. Information about electronic submissions is available on the Grants.gov Web Site. Applications submitted by e-mail, Facsimile transmission (FAX) or any other electronic format will not be accepted.

Section V. Application Review Information

1. Criteria

The technical review of the State Partnership Program applications will consider the following five generic factors.

A. Factor 1: Program Plan (30%)

• Appropriateness of proposed approach and specific activities for each objective.

• Logic and sequencing of the planned approaches in relation to the objectives and program evaluation.

• Soundness of any proposed partnerships (e.g., coalitions), if applicable.

• Likelihood of successful implementation of the project.

B. Factor 2: Evaluation (25%)

• The degree to which expected results are appropriate for major objectives and activities.

• Appropriateness of the proposed data collection (including demographic data to be collected), analysis, and reporting procedures.

• Clarity of the intent and plans to assess and document progress toward achieving objectives, planned activities, and intended outcomes.

• Suitability of process, outcome, and impact measures.

• Potential for the proposed project to impact the health status of, and barriers to, health care experienced by the targeted minority populations.

• Potential for replication of the project by other State and territorial offices of minority health.

C. Factor 3: Objectives (20%)

• Merit of the objectives.

• Relevance to the Program purpose, expectations, and stated problem.

• Attainability of the objectives in the stated time frames.

D. Factor 4: Management Plan (15%)

• Applicant's capability to manage and evaluate the project as determined by:

—Qualifications and appropriateness of proposed staff or requirements for “to be hired” staff and consultants.

—Proposed staff level of effort.

—Management experience of the applicant.

—The applicant's organizational structure and proposed project organizational structure.

• Appropriateness of defined roles including staff reporting channels and that of any proposed contractors or other collaborating department of health entities.

• Clear lines of authority among the proposed staff within and between participating organizations, if applicable.

• Inclusion and/or plan for communicating program activities and outcomes with senior state health officials.

E. Factor 5: Statement of Need (10%)

• Demonstrated knowledge of the stated problem at the State and/or local level, as applicable.

• Significance and prevalence of any identified health problem(s) or health issue(s) in the State/territory.

• Inclusion of information on priority health disparities issue areas.

• Extent to which the applicant demonstrates access to the target population/community, and whether it is well positioned and accepted within the population/community to be served.

• Extent and documented outcome of past efforts and activities with the target population.

2. Review and Selection Process

Accepted State Partnership Program applications will be reviewed for technical merit in accordance with PHS policies. Applications will be evaluated by an Objective Review Committee (ORC). Committee members are chosen for their expertise in minority health, health disparities, and their understanding of the unique health problems and related issues confronted by the racial and ethnic minority populations in the United States. Funding decisions will be determined by the Deputy Assistant Secretary for Minority Health who will take under consideration the recommendations and ratings of the ORC.

3. Anticipated Award Date

September 1, 2005.

Section VI. Award Administration Information

1. Award Notices

Successful applicants will receive a notification letter from the Deputy Assistant Secretary for Minority Health and a Notice of Grant Award (NGA), signed by the OPHS Grants Management Officer. The NGA shall be the only binding, authorizing document between the recipient and the Office of Minority Health. Notification will be mailed to the Program Director identified in the application.

Unsuccessful applicants will receive a notification letter with the results of the review of their application from the Deputy Assistant Secretary for Minority Health.

2. Administrative and National Policy Requirements

In accepting this award, the grantee stipulates that the award and any activities thereunder are subject to all provisions of 45 CFR parts 74 and 92, currently in effect or implemented during the period of the grant.

A Notice providing information and guidance regarding the “Government-wide Implementation of the President's Welfare-to-Work Initiative for Federal Grant Programs” was published in the Federal Register on May 16, 1997. This initiative was designated to facilitate and encourage grantees and their sub-recipients to hire welfare recipients and to provide additional needed training and/or mentoring as needed. The text of the Notice is available electronically on the OMB home page at http://www.whitehouse.gov/omb.

3. Reporting Requirements

A successful applicant under this notice will submit: (1) Semi-annual progress reports; (2) an annual Financial Status Report; and (3) a final progress report and Financial Status Report in the format established by the OMH, in accordance with provisions of the general regulations which apply under “Monitoring and Reporting Program Performance,” 45 CFR Part 74-51—74.52, with the exception of State and local governments to which 45 CFR Part 92, Subpart C reporting requirements apply.

Uniform Data Set: The Uniform Data Set (UDS) system is designed to assist in evaluating the effectiveness and impact of grant and cooperative agreement projects. All OMH grantees are required to report project information, using the Web-based UDS. Training will be provided to all new grantees on the use of the UDS system, during the annual grantee meeting.

Grantees will be informed of the progress report due dates and means of submission. Instructions and report format will be provided prior to the required due date. The Annual Financial Status Report is due no later than 90 days after the close of each budget period. The final progress report and Financial Status Report are due 90 days after the end of the project period. Instructions and due dates will be provided prior to required submission.

Section VII. Agency Contacts

For questions on budget and business aspects of the application, contact the Office of Grants Management, OPHS, Tower Building, 1101 Wootton Parkway, Suite 550, Rockville, MD 20852, at (240) 453-8822.

For questions related to the State Partnership Program or assistance in preparing a grant proposal, contact Ms. Cynthia Amis, Director, Division of Program Operations, Office of Minority Health, Tower Building, Suite 600, 1101 Wootton Parkway, Rockville, MD 20852. Ms. Amis can be reached by telephone at (240) 453-8444.

For additional technical assistance, contact the OMH Regional Minority Health Consultant for your region listed in your grant application kit.

For health information, call the OMH Resource Center (OMHRC) at 1-800-444-6472.

Section VIII. Other Information

1. Healthy People 2010

The Public Health Service (PHS) is committed to achieving the health promotion and disease prevention objectives of Healthy People 2010, a PHS-led national activity announced in January 2000 to eliminate health disparities and improve years and quality of life. More information may be found on the Healthy People 2010 Web site: http://www.healthypeople.gov and copies of the document may be downloaded. Copies of the Healthy People 2010: Volumes I and II can be purchased by calling (202) 512-1800 (cost $70.00 for printed version; $20.00 for CD-ROM). Another reference is the Healthy People 2010 Final Review—2001.

For 1 free copy of the Healthy People 2010, contact: The National Center for Health Statistics, Division of Data Services, 3311 Toledo Road, Hyattsville, MD 20782, or by telephone at (301) 458-4636. Ask for HHS Publication No. (PHS) 99-1256. This document may also be downloaded from: http://www.healthypeople.gov.

2. Definitions

For purposes of this announcement, the following definitions apply:

Minority Populations—American Indian or Alaska Native, Asian, Black or African American, Hispanic or Latino, and Native Hawaiian or Other Pacific Islander. (Revision to the Standards for the Classification of Federal Data on Race and Ethnicity, Federal Register, Vol. 62, No. 210, pg. 58782, October 30, 1997.)

State and Territorial Office of Minority Health—An entity formally established by Executive Order, statute, or a State health officer to improve the health of racial and ethnic populations.

3. List of States and Territories With Established Offices of Minority Health as of This Notice Include

Alabama, Arizona, Arkansas, California, Colorado, Connecticut, Delaware, Florida, Georgia, Hawaii, Illinois, Indiana, Louisiana, Maine, Maryland, Massachusetts, Michigan, Minnesota, Mississippi, Missouri, Nebraska, New Hampshire, New Jersey, New York, North Carolina, Ohio, Oklahoma, Oregon, Puerto Rico, Rhode Island, South Carolina, Tennessee, Texas, Utah, Vermont, Virginia, Virgin Islands, West Virginia, Wisconsin.

Dated: May 27, 2005.
Garth N. Graham,
Deputy Assistant Secretary for Minority Health.

[FR Doc. 05-12318 Filed 6-21-05; 8:45 am]

BILLING CODE 4150-29-P